OFFICE OF PERSONNEL MANAGEMENT

Civilian Acquisition Workforce Personnel Demonstration Project in the Department of Defense: Correction

AGENCY: U.S. Office of Personnel Management.

ACTION: Notice of amendments to the project plan for the Department of Defense (DoD) Civilian Acquisition Workforce Personnel Demonstration Project (AcqDemo); Correction.

SUMMARY: The U.S. Office of Personnel Management published a document in the Federal Register on March 31, 2015, announcing amendments to a demonstration project plan for the civilian acquisition workforce of the Department of Defense. The document requires three technical corrections that will ensure access for the entirety of an organization to participate.

FOR FURTHER INFORMATION CONTACT: Zelma Moore, U.S. Office of Personnel Management; 1900 E Street NW., Room 7456; Washington, DC 20415; (202) 606-1157.

Correction

In FR Doc. 2015-07314, published on Tuesday, March 31, 2015, in Volume 80, Number 61, page 17114, make the following corrections:

1. On page 17114 in Table 1A, first line in the section titled “Navy,” third column, delete the location of “Arlington, VA” and replace with “All locations”.

2. On the same page in Table 1A, second line in the section titled “Navy,” third column, delete the location of “Patuxent River, MD” and replace with “All locations”.

3. On the same page in Table 1A, third line in the section titled “Navy,” third column, delete the location of “San Diego, CA” and replace with “All locations”.

U.S. Office of Personnel Management.
Shanaz Porter,
Group Manager, Forecasting and Methods and Acting Group Manager, Talent Management.

[FR Doc. 2016-02610 Filed 2-8-16; 8:45 am]

BILLING CODE 6325-39-P